DEPARTMENT OF TRANSPORTATION

Federal Aviation Administration

14 CFR Part 39

[Docket No. 2001-NM-65-AD; Amendment 39-12811; AD 2002-14-11]

RIN 2120-AA64

Airworthiness Directives; McDonnell Douglas Model MD-11 and -11F Airplanes

AGENCY: Federal Aviation Administration, DOT.

ACTION: Final rule.

SUMMARY: This amendment supersedes an existing airworthiness directive (AD), applicable to certain McDonnell Douglas Model MD-11 series airplanes, that currently requires replacing the ground support bracket(s); and rerouting the ground cables of the galley external power and main external power, or ground cables of the main external power; as applicable. This amendment requires a general visual inspection of the ground cables of the main external power and galley external power for excessive length, as applicable; and corrective actions, if necessary. This amendment is prompted by the FAA's determination that currently required actions may not adequately address the identified unsafe condition. The actions specified by this AD are intended to prevent arcing and heat damage to the attachment points of the main external and galley power receptacle ground wire, insulation blankets outboard and aft of the receptacle area, and adjacent power cables, which could result in smoke and fire in the forward cargo compartment.

DATES: Effective August 23, 2002.

The incorporation by reference of McDonnell Douglas Alert Service Bulletin MD11-24A138, Revision 01, dated June 5, 2001, as listed in the regulations, is approved by the Director of the Federal Register as of August 23, 2002.

The incorporation by reference of McDonnell Douglas Alert Service Bulletin MD11-24A138, dated April 3, 2000, as listed in the regulations, was approved previously by the Director of the Federal Register as of January 8, 2001 (65 FR 75616, December 4, 2000).

ADDRESSES: The service information referenced in this AD may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Technical Information: Brett Portwood, Aerospace Engineer, Systems and Equipment Branch, ANM-130L, FAA, Los Angeles Aircraft Certification Office, 3960 Paramount Boulevard, Lakewood, California 90712-4137; telephone (562) 627-5350; fax (562) 627-5210.

Other Information: Sandi Carli, Airworthiness Directive Technical Writer/Editor; telephone (425) 687-4243, fax (425) 227-1232. Questions or comments may also be sent via the Internet using the following address: sandi.carli@faa.gov. Questions or comments sent via the Internet as attached electronic files must be formatted in Microsoft Word 97 for Windows or ASCII text.

SUPPLEMENTARY INFORMATION: A proposal to amend part 39 of the Federal Aviation Regulations (14 CFR part 39) by superseding AD 2000-24-13, amendment 39-12020 (65 FR 75616, December 4, 2000), which is applicable to certain McDonnell Douglas Model MD-11 and -11F airplanes, was published in the Federal Register on October 5, 2001 (66 FR 50877). The action continues to require replacing the ground support bracket(s); and rerouting the ground cables of the galley external power and main external power, or ground cables of the main external power; as applicable. The action proposed to require a general visual inspection of the ground cables of the main external power and galley external power for excessive length, as applicable; and corrective actions, if necessary.

Comments

Interested persons have been afforded an opportunity to participate in the making of this amendment. No comments were submitted in response to the proposal or the FAA's determination of the cost to the public.

Explanation of Change to Applicability

The FAA finds that Model MD-11 and -11F airplanes were not specifically identified by model name in the applicability of the proposed AD. However, those airplanes were identified by manufacturer's fuselage numbers in the effectivity listing of McDonnell Douglas Alert Service Bulletin MD11-24A138, Revision 01, dated June 5, 2001, which was referenced in the applicability of the proposed AD. Therefore, we have revised this AD to specifically reference Model MD-11 and -11F airplanes where appropriate. In addition, we have revised the applicability of the existing AD to identify model designations as published in the most recent type certificate data sheet for the affected models.

Explanation of Change to Inspection Definition

For clarification purposes, the FAA has revised the definition of a “general visual inspection” in Note 2 of this final rule.

Conclusion

After careful review of the available data, the FAA has determined that air safety and the public interest require the adoption of the rule with the changes described above. The FAA has determined that these changes will neither increase the economic burden on any operator nor increase the scope of the AD.

Cost Impact

There are approximately 149 Model MD-11 and -11F airplanes of the affected design in the worldwide fleet. The FAA estimates that 59 airplanes of U.S. registry will be affected by this AD.

The actions that are currently required by AD 2000-24-13, and retained in this amendment, take approximately 1 work hour (for Group 1 airplanes) or 2 work hours (for Group 2 airplanes) per airplane to accomplish the required actions, at an average labor rate of $60 per work hour. Required parts cost approximately $337 (for Group 1 airplanes) or $647 (for Group 2 airplanes) per airplane. Based on these figures, the cost impact of the currently required actions on U.S. operators is estimated to be $397 (for Group 1 airplanes) or $767 (for Group 2 airplanes), per airplane.

The new actions that are required by this AD action will take approximately 1 work hour per airplane to accomplish, at an average labor rate of $60 per work hour. Based on these figures, the cost impact of the new requirements of this AD is estimated to be $3,540, or $60 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12020 (65 FR 75616, December 4, 2000), and by adding a new airworthiness directive (AD), amendment 39-12811, to read as follows:

2002-14-11 McDonnell Douglas: Amendment 39-12811. Docket 2001-NM-65-AD. Supersedes AD 2000-24-13, Amendment 39-12020.

Applicability: Model MD-11 and -11F airplanes, as listed in McDonnell Douglas Alert Service Bulletin MD11-24A138, Revision 01, dated June 5, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent arcing and heat damage to the attachment points of the main external and galley power receptacle ground wire, insulation blankets outboard and aft of the receptacle area, and adjacent power cables, which could result in smoke and fire in the forward cargo compartment, accomplish the following:

Replacement and Rerouting

(a) Within 12 months after January 8, 2001 (the effective date of AD 2000-24-13, amendment 39-12020), accomplish the actions specified in paragraph (a)(1) or (a)(2) of this AD, as applicable, in accordance with McDonnell Douglas Alert Service Bulletin MD11-24A138, dated April 3, 2000, or Revision 01, dated June 5, 2001. As of the effective date of this AD, only Revision 01 of the service bulletin shall be used.

(1) For Group 1 airplanes listed in the original version of the service bulletin, excluding fuselage number 0456: Replace the ground support brackets with new brackets and reroute the ground cables of the galley external power and main external power.

(2) For Group 2 airplanes listed in the original version of the service bulletin and fuselage number 0456: Replace the ground support bracket and reroute the ground cables of the main external power.

Inspection and Corrective Actions, If Necessary

(b) Within 12 months after the effective date of this AD, accomplish the actions specified in paragraph (b)(1) or (b)(2) of this AD, as applicable, in accordance with McDonnell Douglas Alert Service Bulletin MD11-24A138, Revision 01, dated June 5, 2001.

(1) For Group 3 airplanes listed in Revision 01 of the service bulletin: Do a general visual inspection of the ground cables of the main external power and galley external power for excessive length. If any cable length is excessive, before further flight, do applicable corrective actions (e.g., cut cable assembly to correct length and install a terminal on the cut end of the cable) per Condition 2 of Figure 3 of the service bulletin.

(2) For Group 4 airplanes listed in Revision 01 of the service bulletin: Do a general visual inspection of the ground cables of the main external power for excessive length. If any cable length is excessive, before further flight, do applicable corrective actions (e.g., cut cable assembly to correct length and install a terminal on the cut end of the cable) per Condition 2 of Figure 4 of the service bulletin.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with McDonnell Douglas Alert Service Bulletin MD11-24A138, dated April 3, 2000, or McDonnell Douglas Alert Service Bulletin MD11-24A138, Revision 01, dated June 5, 2001; as applicable.

(1) This incorporation by reference of McDonnell Douglas Alert Service Bulletin MD11-24A138, Revision 01, dated June 5, 2001, is approved by the Director of the Federal Register in accordance with 5 U.S.C. 552(a) and 1 CFR part 51.

(2) The incorporation by reference of McDonnell Douglas Alert Service Bulletin MD11-24A138, dated April 3, 2000, was approved previously by the Director of the Federal Register as of January 8, 2001 (65 FR 75616, December 4, 2000).

(3) Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(f) This amendment becomes effective on August 23, 2002.

Issued in Renton, Washington, on July 2, 2002.
Jeffrey E. Duven,
Acting Manager, Transport Airplane Directorate, Aircraft Certification Service.

[FR Doc. 02-17530 Filed 7-18-02; 8:45 am]

BILLING CODE 4910-13-P